MILLENNIUM CHALLENGE CORPORATION

[MCC FR 10-15]

Notice of the December 15, 2010 Millennium Challenge Corporation Board of Directors Meeting; Sunshine Act Meeting

AGENCY: Millennium Challenge Corporation.

TIME AND DATE: 10 a.m. to 12 p.m., Wednesday, December 15, 2010.

PLACE: Department of State, 2201 C Street, NW., Washington, DC 20520.

FOR FURTHER INFORMATION CONTACT: Information on the meeting may be obtained from Melvin Williams, Jr., Vice President, General Counsel and Corporate Secretary via e-mail at Corporatesecretary@mcc.gov or by telephone at (202) 521-3600.

STATUS: Meeting will be closed to the public.

MATTERS TO BE CONSIDERED: The Board of Directors (the “Board”) of the Millennium Challenge Corporation (“MCC”) will hold a meeting to consider the selection of countries that will be eligible for FY 2011 Millennium Challenge Account (“MCA”) assistance under Section 607 of the Millennium Challenge Act of 2003 (the “Act”), codified at 22 U.S.C. 7706; discussion of the Malawi Compact; and certain administrative matters. The agenda items are expected to involve the consideration of classified information and the meeting will be closed to the public.

Dated: November 19, 2010.
Melvin F. Williams, Jr.,
VP/General Counsel and Corporate Secretary, Millennium Challenge Corporation.

[FR Doc. 2010-29648 Filed 11-19-10; 4:15 pm]

BILLING CODE 9211-03-P